DEPARTMENT OF ENERGY

Federal Energy Regulatory Commission

Notice of Reporting Procedures for Public Utility Sellers

December 19, 2000.

The Commission's order in San Diego Gas & Electric Co., et al. v. Sellers of Energy and Ancillary Services et al., Docket No. EL00-95-000 et al., 93 FERC ¶ 61,294 (December 15, 2000), requires public utility sellers to make weekly reports to the Commission's Division of Energy Markets beginning on January 10, 2001 for the week of January 1, 2001. Public Utility Sellers must report all hourly transactions into the California ISO and PX markets when the real-time price exceeds $150 per MWh. This notice specifies procedures for filing the reports.

Public utility sellers are to file the reported information with the Commission's Secretary on diskette or CD with a transmittal letter. The transmittal letter must identify the report as the “Public Utility Sellers Weekly Report” and include the name of the reporting public utility seller, the week covered in the report and the name, and telephone number and e-mail address of a contact person. The diskette or CD must be labeled with the following information: “Public Utility Sellers Weekly Report”, name of the reporting public utility seller, the week covered in the report. No paper copies of the report should be submitted. The specific requirements for the content of the electronic report are set forth in the Commission's order, San Diego Gas & Electric et al.. Sellers of Energy and Ancillary Services, slip at 58-59. The order is accessible on-line at www.ferc.fed.us under “Bulk Power Markets”.

If the reporting public utility seller seeks confidential treatment of this information under section 388.112 of the Commission's regulations, a statement requesting confidential treatment must be included in the transmittal letter and the diskette or CD must be labeled “confidential.”

Linwood A. Watson, Jr.,
Acting Secretary.

[FR Doc. 00-32797 Filed 12-22-00; 8:45 am]

BILLING CODE 6717-01-M